NATIONAL TRANSPORTATION SAFETY BOARD

Sunshine Act Meeting

Time and Date: 8:30 a.m., Tuesday, February 13, 2007.

Place: NTSB Conference Center, 429 L'Enfant Plaza, SW., Washington, DC 20594.

Status: The two items are open to the public.

Matters to be Considered:

7862 Aviation Aircraft Accident Report—Weather Encounter and Subsequent Collision into Terrain, Bali Hai Helicopter Tours, Inc., Bell 206B, N16849, Kalaheo, Hawaii, September 24, 2004.

7861 Aviation Accident Brief and Safety Recommendation Letter—Weather Encounter and Subsequent Crash into the Pacific Ocean, Heli-USA Airways, Inc., Aerospatiale AS350BA, N355NT, Haena, Hawaii, September 23, 2005.

News Media Contact: Telephone: (202) 314-6100.

Individuals requesting specific accommodations should contact Chris Bisett at (202) 314-6305 by Friday, February 9, 2007.

The public may view the meeting via a live or archived webcast by accessing a link under “News & Events” on the NTSB home page at www.ntsb.gov.

FOR MORE INFORMATION CONTACT: Vicky D'Onofrio, (202) 314-6410.

Dated: February 2, 2007.
Vicky D'Onofrio,
Federal Register Liaison Officer.

[FR Doc. 07-541 Filed 2-2-07; 1:16 pm]

BILLING CODE 7533-01-M